POSTAL SERVICE BOARD OF GOVERNORS

Sunshine Act Meeting

TIMES AND DATES: 1 p.m., Monday, December 4, 2000; 8:30 a.m., Tuesday, December 5, 2000; 10 a.m., Tuesday, December 5, 2000.

PLACE: Washington, DC, at U.S. Postal Service Headquarters, 475 L'Enfant Plaza, SW., in the Benjamin Franklin Room.

STATUS: December 4 (Closed); December 5—8:30 a.m. (Open); 10 a.m. (Closed).

MATTERS TO BE CONSIDERED:

Monday, December 4—1 p.m. (Closed)

1. Audit Committee Report and Review of Year-End Financial Statements.

2. Preliminary Fiscal year 2002 Appropriation Request.

3. Postal Rate Commission Opinion and Recommended Decision in Docket No. R2000-1, Omnibus Rate Case.

4. Personnel Matters.

5. Compensation Issues.

6. Strategic Planning.

7. Fiscal year 2001 EVA Variable Pay Program.

Tuesday, December 5—8:30 a.m. (Open)

1. Minutes of the Previous Meeting, November 13-14, 2000.

2. Remarks of the Postmaster General/Chief Executive Officer.

3. Consideration of Fiscal Year 2000 Audited Financial Statements.

4. Final Fiscal Year 2002 Appropriation Request.

5. Capital Investments.

a. Milwaukee, Wisconsin, P&DC Ramp and Maneuvering Area Restoration.

b. Indianapolis, Indiana, Consolidated Mail Processing Annex.

c. Automated Flat Feed and OCR Additional Funding.

6. Tentative Agenda for the January 8-9, 2001, meeting in Washington, DC.

Tuesday, December 5—10 a.m. (Closed)

1. Continuation of Monday's Closed Agenda.

CONTACT PERSON FOR MORE INFORMATION: David G. Hunter, Secretary of the Board, U.S. Postal Service, 475 L'Enfant Plaza, SW., Washington, DC 20260-1000. Telephone (202) 268-4800.

David G. Hunter,
Secretary.

[FR Doc. 00-30368 Filed 11-22-00; 8:45 am]

BILLING CODE 7710-12-M